DEPARTMENT OF ENERGY

[GDO Docket No. EA-185-F]

Application for Renewal of Authorization To Export Electric Energy; Morgan Stanley Capital Group Inc.

AGENCY: Grid Deployment Office, Department of Energy.

ACTION: Notice of application.

SUMMARY: Morgan Stanley Capital Group Inc. (the Applicant or MSCG) has applied for renewal of its authorization to transmit electric energy from the United States to Canada pursuant to the Federal Power Act.

DATES: Comments, protests, or motions to intervene must be submitted on or before December 22, 2025.

ADDRESSES: Comments, protests, motions to intervene, or requests for more information should be addressed by electronic mail to Electricity.Exports@hq.doe.gov.

FOR FURTHER INFORMATION CONTACT: Marina Fennel, (240) 702-6156, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) under Redelegation Order No. S3-DEL-GD1-2023.¹

¹ As stated in Redelegation Order No. S3-DEL-GD1-2023, nothing in the Order precludes the Secretary or the Under Secretary (for Infrastructure) from exercising any of the authority delegated by the Order.

On June 18, 2025, MSCG filed an application (Application or App) for renewal of export authorization to transmit electric energy from the United States to Canada for a term of five years. App. at 1.

According to the Application, MSCG is a Delaware corporation with its principal place of business in New York, New York and is “an indirect, wholly-owned subsidiary of Morgan Stanley.” Id. at 2. The applicant states that it is “a power marketer authorized by [the Federal Energy Regulatory Commission] to make wholesale power sales at market-based rates.” Id. at 3 (internal citations omitted). MSCG represents that it “does not directly own any electric generation or transmission facilities, nor does it hold a franchise or service territory for the transmission, distribution, or sale of electric power” but that it “has rights to certain generation capacity and energy that it has purchased from third parties under long-term contracts, and is affiliated, via common upstream ownership, with certain generation owners[.]” Id.

The Applicant states that it “has purchased, or will purchase, the electric power that it may export, on either a firm or an interruptible basis, from wholesale generators, electric utilities, and federal power marketing agencies voluntarily, and therefore will be surplus to the needs of the selling entities. Accordingly, the proposed exports will not impair or tend to impede the sufficiency of electric power supplies in the United States or the regional coordination of electric utility planning or operations.” App. at 7-8. MSCG represents that it will schedule its export transactions “with the appropriate balancing authority area in compliance with all reliability criteria, standards, and guidelines of the North American Electric Reliability Corporation and the relevant Regional Entities[.]” Id. at 8. The applicant also states it “does not have the ability to cause a violation of the terms and conditions in the existing authorizations associated with international transmission facilities. Specifically, MSCG does not have the ability to cause total exports on Presidential Permit facilities to exceed the authorized instantaneous transmission rate.” Id.

The existing international transmission facilities to be utilized by the Applicant have been previously authorized by Presidential permits issued pursuant to Executive Order 10485, as amended, and are appropriate for open access transmission by third parties. See App. at Attachment 1.

Procedural Matters: Any person desiring to be heard in this proceeding should file a comment or protest to the Application at Electricity.Exports@hq.doe.gov. Protests should be filed in accordance with Rule 211 of Federal Energy Regulatory Commission's (FERC's) Rules of Practice and Procedure (18 CFR 385.211). Any person desiring to become a party to this proceeding should file a motion to intervene at Electricity.Exports@hq.doe.gov in accordance with FERC Rule 214 (18 CFR 385.214).

Comments and other filings concerning the MSCG Application should be clearly marked with GDO Docket No. EA-185-F. Additional copies are to be provided directly to Robert Scherer, Executive Director and Counsel, Morgan Stanley and Co. LLC, 1585 Broadway, 4th Floor, New York, NY 10036, Robert.C.Scherer@morganstanley.com, and Daniel E. Frank, Partner, and Allison E.S. Salvia, Counsel, Eversheds Sutherland (US) LLP, 700 Sixth St. NW, Suite 700, Washington, DC 20001-3980, danielfrank@eversheds-sutherland.com, allisonsalvia@eversheds-sutherland.com.

A final decision will be made on the requested authorization after DOE reviews the action pursuant to the National Environmental Policy Act Implementing Procedures (June 2025), including 10 CFR part 1021, and after DOE evaluates whether the proposed action will have an adverse impact on the sufficiency of supply or reliability of the United States electric power supply system.

Copies of this Application will be made available, upon request, by accessing the program website at www.energy.gov/gdo/pending-applications-0 or by emailing Electricity.Exports@hq.doe.gov.

Signing Authority

This document of the Department of Energy was signed on November 14, 2025, by Chris Wright, Secretary of Energy, U.S. Department of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 19, 2025.
Treena V. Garrett,
Federal Register Liaison Officer, U.S. Department of Energy.

[FR Doc. 2025-20603 Filed 11-20-25; 8:45 am]

BILLING CODE 6450-01-P